DEPARTMENT OF HEALTH AND HUMAN SERVICES

Centers for Disease Control and Prevention

[Program Announcement 01071]

National Health Promotion and Information Center for People With Paralysis; Notice of Availability of Funds

A. Purpose

The Centers for Disease Control and Prevention (CDC) announces the availability of fiscal year (FY) 2001 funds for a cooperative agreement program to establish a National Health Promotion and Information Center (NHPIC) for People with Paralysis.

The purpose of this cooperative agreement is to develop and expand national efforts for the prevention of secondary conditions and complications, and to improve outcomes and the quality of life for people living with paralysis from multiple causes.

B. Eligible Applicant

Assistance will only be provided to the Christopher Reeve Paralysis Foundation. No other applications are solicited. FY 2001 Federal appropriations specifically direct CDC to award funds to this organization.

C. Availability of Funds

Approximately $1,568,000 is available in FY 2001 to fund this award. It is expected that the award will begin on or about September 30, 2001, and will be made for a 12 month budget period within a one year project period.

D. Where To Obtain Additional Information

This and other CDC announcements may be found on the CDC home page on the Internet at: http://www.cdc.gov.

To obtain business management technical assistance may be obtained from: Nancy Pillar, Grants Management Specialist, Grants Management Branch, Procurement and Grants Office Centers for Disease Control and Prevention (CDC), 2920 Brandywine Road, Room 3000, Mailstop E-13, Atlanta, Georgia 30341-4146, Telephone: (770) 488-2710, E-Mail address: nfp6@cdc.gov.

General program assistance can be obtained from: Joseph B. Smith, Senior Project Officer, Disability and Health Branch, National Center for Birth Defects and Developmental Disabilities, Disability and Health Branch, 4770 Buford Highway, Building 101, Mailstop F-35, Atlanta, Georgia 30341, Telephone: (770) 488-7082, E-Mail address: jos4@cdc.gov.

Dated: April 30, 2001.
John L. Williams,
Director, Procurement and Grants Office, Centers for Disease Control and Prevention (CDC).

[FR Doc. 01-11216 Filed 5-3-01; 8:45 am]

BILLING CODE 4163-18-P